DEPARTMENT OF TRANSPORTATION

Surface Transportation Board

[STB Ex Parte No. 385 (Sub-No. 6)]

Waybill Sample

AGENCY: Surface Transportation Board, DOT.

ACTION: Clarification.

SUMMARY: The Surface Transportation Board provides notice that all railroads required to submit a waybill sample under 49 CFR part 1244 shall report fuel surcharge revenues in the waybill field “Freight Revenue,” columns 83-91 in the waybill file record layout.

DATES: Effective Date: This notice is effective on January 1, 2008.

FOR FURTHER INFORMATION CONTACT: Mac Frampton, (202) 245-0317 or mac.frampton@stb.dot.gov. [Federal Information Relay Service (FIRS) for the hearing impaired: 1-800-877-8339.]

SUPPLEMENTARY INFORMATION: A carload waybill, which is a document describing the characteristics of an individual rail shipment, identifies originating and terminating freight stations, the names of all railroads participating in the movement, the points of all railroad interchanges, the number of cars, the car types, movement weight in hundredweight, the commodity, and the freight revenue. Under 49 CFR part 1244, a railroad is required to file carload waybill sample information (Waybill Sample) for all line-haul revenue waybills terminating on its lines if, in any of the three preceding years, it terminated 4500 or more carloads, or it terminated at least 5% of the total revenue carloads that terminate in a particular state.

The Waybill Sample is the Board's primary source of information about freight rail shipments terminated in the United States. Of particular importance, the Board relies on the data in the Freight Revenue field to compute its “Revenue Shortfall Allocation Method” (RSAM) benchmarks.

For the most part, carriers are already reporting revenue derived from fuel surcharges within the Freight Revenue field. However, a few carriers are using the “Miscellaneous Charges” field to report fuel surcharge revenue. This notice clarifies that all reporting carriers should report their fuel surcharge revenues in the Freight Revenue field. This clarification will provide for uniformity in the reporting of fuel surcharge revenue in the Waybill Sample and therefore improve the accuracy and utility of the Board's RSAM calculations.

To purchase a copy of this decision, write to, e-mail or call: ASAP Document Solutions, 9332 Annapolis Rd., Suite 103, Lanham, MD 20706; e-mail asapdc@verizon.net; telephone (202) 306-4004. [Assistance for the hearing impaired is available through FIRS at 1-800-877-8339.]

Board decisions, notices, filings, and hearings transcripts are also available on our Web site at http://www.stb.dot.gov.

Decided: December 12, 2007.
By the Board, Chairman Nottingham, Vice Chairman Buttrey, and Commissioner Mulvey.
Vernon A. Williams,
Secretary.

[FR Doc. E7-24589 Filed 12-18-07; 8:45 am]

BILLING CODE 4915-01-P